DEPARTMENT OF ENERGY

Federal Energy Regulatory Commission

Combined Notice of Filings #2

Take notice that the Commission received the following electric corporate filings:

Docket Numbers: EC12-118-000.

Applicants: Hardee Power Partners Limited.

Description: Application for Authorization under Section 203 of the Federal Power Act and Request for Waivers and Expedited Action of Hardee Power Partners Limited.

Filed Date: 7/16/12.

Accession Number: 20120716-5044.

Comments Due: 5 p.m. ET 8/6/12.

Docket Numbers: EC12-119-000.

Applicants: FirstEnergy Generation Corp., American Transmission Systems, Incorporation.

Description: Application for Authorization Under Section 203 of the Federal Power Act, Request for Expedited Action and Request for Waivers of FirstEnergy Generation Corp. and American Transmission Systems, Incorporated.

Filed Date: 7/16/12.

Accession Number: 20120716-5102.

Comments Due: 5 p.m. ET 8/6/12.

Take notice that the Commission received the following electric rate filings:

Docket Numbers: ER10-2763-003; ER10-2732-003; ER10-2733-003; ER10-2734-003; ER10-2736-003; ER10-2737-003; ER10-2741-003; ER10-2749-003; ER10-2752-003.

Applicants: Bangor Hydro Electric Company.

Description: Notice of Changes in Status of Bangor Hydro Electric Company, et al.

Filed Date: 7/16/12.

Accession Number: 20120716-5085.

Comments Due: 5 p.m. ET 8/6/12.

Docket Numbers: ER10-2881-004; ER10-2882-004; ER10-2883-004; ER10-2884-004; ER10-2885-004; ER10-2641-004; ER10-2663-004; ER10-2886-004.

Applicants: Alabama Power Company, Georgia Power Company, Mississippi Power Company, Southern Power Company, Gulf Power Company, Oleander Power Project, L.P., Southern Company—Florida LLC, Southern Turner Cimarron I, LLC.

Description: Notice of Non-Material Change in Status of Alabama Power Company, et al.

Filed Date: 7/16/12.

Accession Number: 20120716-5092.

Comments Due: 5 p.m. ET 8/6/12.

Docket Numbers: ER12-1630-000.

Applicants: California Independent System Operator Corporation.

Description: Order 755 Compliance Filing of the California Independent System Operator Corporation—response to Commission June 8 2012 letter.

Filed Date: 7/6/12.

Accession Number: 20120706-5126.

Comments Due: 5 p.m. ET 7/30/12.

Docket Numbers: ER12-1877-001.

Applicants: ISO New England Inc., Massachusetts Electric Company.

Description: OATT Attachment F Technical Corrections to be effective 6/1/2012.

Filed Date: 7/16/12.

Accession Number: 20120716-5038.

Comments Due: 5 p.m. ET 7/23/12.

Docket Numbers: ER12-1999-001.

Applicants: MidAmerican Energy Company.

Description: Succession Agreement—Revised Certificate of Concurrence to be effective 2/21/2012.

Filed Date: 7/16/12.

Accession Number: 20120716-5031.

Comments Due: 5 p.m. ET 8/6/12.

Docket Numbers: ER12-2244-000.

Applicants: Intelligen Resources, L.P.

Description: Petition for Market-Based Rate Authority to be effective 7/17/2012.

Filed Date: 7/16/12.

Accession Number: 20120716-5048.

Comments Due: 5 p.m. ET 8/6/12.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2012.
Nathaniel J. Davis, Sr.,
Deputy Secretary.

[FR Doc. 2012-17822 Filed 7-20-12; 8:45 am]

BILLING CODE 6717-01-P